DEPARTMENT OF TRANSPORTATION

Pipeline and Hazardous Materials Safety Administration

[Docket No PHMSA-2013-0003]

Pipeline Safety: Information Collection Activities, Revision to Annual Report for Hazardous Liquid Pipeline Systems

AGENCY: Pipeline and Hazardous Materials Safety Administration (PHMSA), DOT.

ACTION: Notice and request for comments.

SUMMARY: In accordance with the Paperwork Reduction Act of 1995, the Pipeline and Hazardous Materials Safety Administration (PHMSA) invites comments on its intention to revise form PHMSA F 7000-1.1—Annual Report for Hazardous Liquid Pipeline Systems, and its intention to request approval from the Office of Management and Budget (OMB) for revised information collection burdens.

DATES: Interested parties are invited to submit comments on or before April 8, 2013.

ADDRESSES: Comments may be submitted in the following ways:

E-Gov Web Site: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., Monday through Friday, except Federal holidays.

Instructions: Identify the docket number, PHMSA-2012-0024, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of DOT, West Building, 1200 New Jersey Avenue SE, Washington, DC, between 9:00 a.m. and 5:00 p.m., Monday through Friday, except Federal holidays. If you wish to receive confirmation of receipt of your written comments, please include a self-addressed, stamped postcard with the following statement: “Comments on PHMSA-2012-0024.” The Docket Clerk will date stamp the postcard prior to returning it to you via the U.S. mail. Please note that due to delays in the delivery of U.S. mail to Federal offices in Washington, DC, we recommend that persons consider an alternative method (Internet, fax, or professional delivery service) of submitting comments to the docket and ensuring their timely receipt at DOT.

FOR FURTHER INFORMATION CONTACT: Angela Dow by telephone at 202-366-1246, by fax at 202-366-4566, or by mail at DOT, PHMSA, 1200 New Jersey Avenue SE, PHP-30, Washington, DC 20590-0001.

SUPPLEMENTARY INFORMATION:

A. Background

Section 1320.8 (d), Title 5, Code of Federal Regulations, requires PHMSA to provide interested members of the public and affected agencies an opportunity to comment on information collection and recordkeeping requests. This notice identifies a revised information collection request that PHMSA will be submitting to OMB for approval. The information collected from hazardous liquid operators' annual reports is an important tool for identifying safety trends in the hazardous liquid pipeline industry.

B. Proposed Changes to the Annual Report for Hazardous Liquid Pipeline Systems

PHMSA is proposing to revise the Annual Report for Hazardous Liquid Pipeline Systems (PHMSA F 7000-1.1, hazardous liquid annual report form) to:

(1) Remove sections A3, A6, and A8 which are of limited value (PART A);

(2) Obtain additional information on a by-state basis (PARTS D and E);

(3) Improve information collection on mileage of older pipe (PART I); and

(4) Require reporting of actionable anomalies removed due to pipe replacement or abandonment (PART F).

Background for these revisions, including the PART location on the hazardous liquid annual report, is as follows:

(1) Remove Sections A3, A6, and A8 (PART A)

Removal of section A3: Section A3- “Individual Where Additional Information May be Obtained” is of limited value since similar information is available in PARTS N and O. This change will only result in an amendment to the form without any burden hour impacts.

Removal of sections A6 and A8: Section A6 of the hazardous liquid annual report allows each submitter to characterize its pipelines and/or the pipeline facilities covered by its Operator Identification (OPID) and commodity group that are included in an integrity management program under 49 CFR 195.452. Section A8 allows for submitters to identify whether they had any changes from last year's filing. PHMSA has determined that these sections provide limited value and should be removed. This change will only result in an amendment to the form without any burden hour impacts.

(2) Obtain Additional Information on a By-State Basis (Parts D and E)

Currently, the annual report information is collected on a by-state basis for PARTS H, I, J, K, L and M. PHMSA proposes to additionally collect information in PART D “Miles of Steel Pipe by Corrosion Protection” and PART E “Miles of Electric Resistance Welded (ERW) Pipe” by state. PHMSA believes that most of the regulated hazardous liquid pipeline industry already collects this information on a by-state basis so the burden for providing it would be minimal. The information in these two PARTs is currently collected from gas transmission pipeline operators who have about twice the mileage as hazardous liquid operators. This information is essential for PHMSA's response to state regulators, Congress, state officials, and the public following pipeline incidents. This information also helps state pipeline safety agencies carry out their oversight responsibilities.

(3) Improve Information Collection on Mileage of Older Pipe (Part I)

In PART I- Miles of Pipe by Decade Installed, the form asks for “Pre-20's or Unknown” decades in one category. Recent accidents on older pipe continue to emphasize the need for information about the age of the pipeline infrastructure; thus, PHMSA believes the information for pipe installed prior to the 1920s should not be comingled with pipe installed at an unknown period. Therefore, PHMSA is proposing to have a category for “Pre-20's” and a category for “Unknown” decade of installation.

(4) Require Reporting of Actionable Anomalies Removed Due to Pipe Replacement or Abandonment (Part F)

The annual report currently collects information about the number of anomalies repaired in response to integrity assessments in PART F. During data quality checks of the 2010 data, PHMSA learned that many anomalies are eliminated from hazardous liquid pipeline systems by pipe replacement or abandonment. This data is crucial to demonstrating the benefits of integrity management programs.

C. Summary of Impacted Collection

PHMSA consulted industry and trade association representatives of the American Petroleum Institute and state pipeline safety representatives through the National Association of Pipeline Safety Representatives in considering revisions to the hazardous liquid pipeline operator annual report form to make the information collected more useful to industry, government, and the public.

PHMSA has revised burden estimates, where appropriate, to reflect revisions to the annual report form since the information collection was last approved. PHMSA estimates that ten percent of reporting companies will abandon or replace pipe in high-consequences areas in any given year and 30 additional minutes would be required to collect and report the information, resulting in an increase in burden of 16.75 hours (335 reports × .10 affected × .5 hours). For the purpose of calculating burden hours, this amount has been rounded up to 17 additional hours for a total reporting burden of 8,063 (8,046 + 17) hours.

The following information is provided for each information collection:

(1) Abstract for the affected annual report form; (2) title of the information collection; (3) OMB control number; (4) affected annual report form; (5) description of affected public; (6) estimate of total annual reporting and recordkeeping burden; and (7) frequency of collection. PHMSA will request a three-year term of approval for each information collection activity and, when approved by OMB, publish notice of the approval in the Federal Register.

PHMSA requests comments on the following information collection:

Title: Transportation of Hazardous Liquids by Pipeline: Recordkeeping and Annual Reporting.

OMB Control Number: 2137-0614.

Current Expiration Date: 1/31/2014.

Type of Request: Revision.

Abstract: To ensure adequate public protection from exposure to potential hazardous liquid pipeline failures, PHMSA collects information on reportable hazardous liquid pipeline accidents. Additional information is also obtained concerning the characteristics of an operator's pipeline system on the Annual Report for Hazardous Liquid Pipeline Systems form (PHMSA F 7000-1.1). This information is needed for normalizing the accident information to provide for adequate safety trending. The Annual Report for Hazardous Liquid Pipeline Operators form is required to be filed annually by June 15 of each year for the preceding calendar year.

Affected Public: Hazardous liquid pipeline operators.

Annual Reporting and Recordkeeping Burden:

Total Annual Responses: 447.

Total Annual Burden Hours: 8,063 (8,046 + 17).

Frequency of collection: Annually.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on February 1, 2013.
Alan K. Mayberry,
Deputy Associate Administrator for Field Operations.

[FR Doc. 2013-02610 Filed 2-5-13; 8:45 am]

BILLING CODE 4910-60-P